POSTAL SERVICE

39 CFR Part 111

Electronic Option for Delivery Confirmation Service Required for Priority Mail Open and Distribute

AGENCY: Postal Service.

ACTION: Proposed rule.

SUMMARY: The Postal Service currently allows mailers to use the electronic option for Delivery Confirmation service on Priority Mail Open and Distribute containers. We are proposing to make this optional extra service a requirement.

DATES: Submit comments on or before June 25, 2007.

ADDRESSES: Mail or deliver written comments to the Manager, Mailing Standards, U.S. Postal Service, 475 L'Enfant Plaza, SW., Room 3436, Washington, DC 20260-3436. Copies of all written comments will be available for inspection and photocopying between 9 a.m. and 4 p.m., Monday through Friday, at the Postal Service Headquarters Library, 475 L'Enfant Plaza, SW., 11th Floor North, Washington, DC 20260-0004.

FOR FURTHER INFORMATION CONTACT: Jean Arnao, Package Services, 202-268-7467; or Garry Rodriguez, Mailing Standards, 202-268-7281.

SUPPLEMENTARY INFORMATION: On February 1, 2007, the Postal Service replaced Express Mail Drop Shipment and Priority Mail Drop Shipment with Express Mail Open and Distribute and Priority Mail Open and Distribute. The revised standards were designed to enhance the Postal Service's ability to provide mailers with expedited service to destination delivery units and other mail processing facilities. In the revision, we provided mailers with an option to use the electronic option for Delivery Confirmation service to verify delivery. We offered this option to enable mailers to receive, at no additional cost, vital performance information that includes the date, ZIP Code, and time their Priority Mail Open and Distribute containers are delivered to their destination. The new requirement for electronic option Delivery Confirmation service on all Priority Mail Open and Distribute containers would allow the Postal Service to monitor these mailings by providing increased visibility to the individual mail containers, providing a measurement tool, and effectively communicating to mailers the delivery status of each container.

Our proposal would require mailers to use the electronic option for Delivery Confirmation service for Priority Mail Open and Distribute containers in accordance with instructions in Publication 91, Confirmation Services Technical Guide. The required use of the electronic option for Delivery Confirmation service for Priority Mail Open and Distribute containers would be effective October 1, 2007.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following sections of Mailing Standards of the United States Postal Service, Domestic Mail Manual (DMM), as follows:

700 Special Standards

* * * * *

705 Advanced Preparation and Special Postage Payment Systems

* * * * *

16.0 Express Mail Open and Distribute and Priority Mail Open and Distribute

* * * * *

16.4 Additional Standards for Priority Mail Open and Distribute

* * * * *

16.4.2 Extra Services

[Revise the first sentence in 16.4.2 to require the use of electronic option Delivery Confirmation service on each container of Priority Mail Open and Distribute as follows:]

Electronic option Delivery Confirmation service is required on all Priority Mail Open and Distribute containers. * * *

* * * * *

16.5 Preparation

* * * * *

16.5.4 Tags 161 and 190—Priority Mail Open and Distribute

[Delete item c.]

* * * * *

16.6.7 Delivery Confirmation Service

[Revise the text of 16.6.7 as follows:]

Mailers should prepare address labels on Label 23, Tag 161, and Tag 190, using the formats in 16.6.8 through 16.6.11. A Delivery Confirmation service barcode must be incorporated in the address label (see 16.4.2). Mailers must obtain USPS certification for each printer used to print barcoded Delivery Confirmation service labels. Further certification and formatting specifications are included in Publication 91, Confirmation Services Technical Guide.

* * * * *

We will publish an appropriate amendment to 39 CFR part 111 to reflect these changes if our proposal is adopted.

Neva Watson,
Attorney, Legislative.

[FR Doc. E7-9967 Filed 5-23-07; 8:45 am]

BILLING CODE 7710-12-P